DEPARTMENT OF COMMERCE

National Oceanic and Atmospheric Administration

50 CFR Part 679

[Docket No. 250312-0037; RTID 0648-XE818]

Fisheries of the Exclusive Economic Zone Off Alaska; Gulf of Alaska; Final 2025 and 2026 Harvest Specifications for Groundfish; 2025 Rockfish Program Cooperative Allocations

AGENCY: National Marine Fisheries Service (NMFS), National Oceanic and Atmospheric Administration (NOAA), Commerce.

ACTION: Temporary rule.

SUMMARY: NMFS is providing notification of the Central Gulf of Alaska (GOA) Rockfish Program cooperative allocations that are based on final total allowable catch (TAC) limits in the final rule published on March 18, 2025, implementing the final 2025 and 2026 harvest specifications and prohibited species catch (PSC) limits for the groundfish fishery of the GOA. These allocations are necessary to provide the Rockfish Program cooperative amounts for 2025, thus allowing commercial fishermen to maximize their economic opportunities in this fishery, consistent with the goals and objectives of the Fishery Management Plan for Groundfish of the GOA (FMP).

DATES: Effective 1200 hours, Alaska local time (A.l.t.), April 1, 2025, through 1200 hours, A.l.t., December 31, 2025.

FOR FURTHER INFORMATION CONTACT: Abby Jahn, 907-586-7228.

SUPPLEMENTARY INFORMATION: NMFS manages the groundfish fishery in the GOA exclusive economic zone according to the FMP prepared and recommended by the North Pacific Fishery Management Council under authority of the Magnuson-Stevens Fishery Conservation and Management Act (Magnuson-Stevens Act). Regulations governing fishing by U.S. vessels in accordance with the FMP appear at subpart H of 50 CFR part 600 and 50 CFR parts 679 and 680.

As described in the final 2025 and 2026 harvest specifications for groundfish of the GOA, allocations among vessels belonging to catcher vessel (CV) cooperatives or catcher/processor (CP) cooperatives are not included in the final harvest specifications (90 FR 12468, March 18, 2025). Rockfish Program applications for CV cooperatives and CP cooperatives are not due to NMFS until March 1 of each calendar year; therefore, NMFS cannot calculate 2025 and 2026 allocations in conjunction with the final harvest specifications (§ 679.81(f)). NMFS has received the 2025 Rockfish Program applications and has calculated the 2025 allocations for CV cooperatives and CP cooperatives as required by and consistent with § 679.81(b), (c), (d), and (e). NMFS is listing the 2025 allocations in table 1.

Table 1—2025 Rockfish Program Cooperative Allocations
Entry level | Group code | Species group | Metric tons
Rockfish Program Entry Level | 401 | Pacific Ocean Perch | 5
|  | Northern Rockfish | 5
|  | Dusky Rockfish | 50
Catcher/Processor Cooperatives:
Gulf of Alaska Rockfish Best Use Cooperative | 412 | Pacific Ocean Perch | 9,683.29
|  | Thornyhead Rockfish | 156.35
|  | Halibut PSC | 74.1
|  | Sablefish | 342.014
|  | Northern Rockfish | 1,352.58
|  | Rougheye/Blackspotted Rockfish | 211.343
|  | Shortraker Rockfish | 75.6
|  | Dusky Rockfish | 2,081.69
Catcher Vessel Cooperatives:
Silver Bay Seafoods Rockfish Cooperative | 407 | Pacific Cod | 145.774
|  | Pacific Ocean Perch | 3,978.24
|  | Thornyhead Rockfish | 11.507
|  | Halibut PSC | 29.182
|  | Sablefish | 164.359
|  | Northern Rockfish | 474.254
|  | Dusky Rockfish | 754.885
North Pacific Rockfish Cooperative | 408 | Pacific Cod | 94.536
|  | Pacific Ocean Perch | 2,527.06
|  | Thornyhead Rockfish | 7.462
|  | Halibut PSC | 18.925
|  | Sablefish | 106.588
|  | Northern Rockfish | 291.378
|  | Dusky Rockfish | 565.949
OBSI Rockfish Cooperative | 409 | Pacific Cod | 129.026
|  | Pacific Ocean Perch | 3,119.94
|  | Thornyhead Rockfish | 10.185
|  | Halibut PSC | 25.829
|  | Sablefish | 145.476
|  | Northern Rockfish | 467.725
|  | Dusky Rockfish | 834.738
Star of Kodiak Rockfish Cooperative | 411 | Pacific Cod | 216.602
|  | Pacific Ocean Perch | 5,395.46
|  | Thornyhead Rockfish | 17.099
|  | Halibut PSC | 43.361
|  | Sablefish | 244.218
|  | Northern Rockfish | 789.062
|  | Dusky Rockfish | 1,280.74

Classification

NMFS issues this action pursuant to section 305(d) of the Magnuson-Stevens Act. Through previous actions, the FMP and regulations are designed to authorize NMFS to take this action pursuant to section 305(d). See 50 CFR part 679. This action is exempt from review under Executive Order 12866.

The Assistant Administrator for Fisheries, NOAA, finds good cause to waive the requirement to provide prior notice and opportunity for public comment pursuant to the authority set forth at 5 U.S.C. 553(b)(B), as such requirement is unnecessary and contrary to the public interest. This notification provides information on the 2025 Rockfish Program cooperative allocations, and does not change operating practices in the fisheries. This notification is consistent with the harvest specifications recommended by the North Pacific Fishery Management Council in December 2024 and implemented by NMFS in the final rule for the 2025 and 2026 harvest specifications (90 FR 12468, March 18, 2025). Those harvest specifications specify the final TAC limits from which NMFS calculates the Rockfish Program cooperative allocations based on existing regulations, which were implemented through prior notice and comment rulemaking (§ 679.81(b), (c), (d), and (e)). The public was provided with notice and opportunity to comment on the TAC limits during the public comment period for the proposed harvest specifications (89 FR 94680, November 29, 2024) and has had notice of the final harvest specifications implementing the final TAC limits (90 FR 12468, March 18, 2025). Because the public already had a meaningful opportunity to comment on the TAC limits from which these allocations are derived, further opportunity for public comment is unnecessary and would not be meaningful.

This notification announces the Rockfish Program cooperative allocations based on applications received after the publication of the 2025 and 2026 harvest specifications. If this notification is delayed to allow for notice and comment it could also result in confusion for participants in the Rockfish Program given that the final rule implementing the 2025 and 2026 harvest specifications is effective and the Rockfish Program fishery opens April 1, 2025. Therefore, the Assistant Administrator finds good cause to waive the requirement to provide prior notice and opportunity for public comment.

For the reasons above, the Assistant Administrator also finds good cause under 5 U.S.C. 553(d)(3) to waive the 30-day delay in effective date and make this rule effective immediately upon publication.

Authority: 16 U.S.C. 1801 et seq.

Dated: March 31, 2025.
Karen H. Abrams,
Acting Director, Office of Sustainable Fisheries, National Marine Fisheries Service.

[FR Doc. 2025-05740 Filed 4-1-25; 4:15 pm]

BILLING CODE 3510-22-P